DEPARTMENT OF LABOR

Employment and Training Administration

[TA-W-70,623]

General Motors Company, Lordstown Complex, Including On-Site Leased Workers From Adroit Software & Consulting, Inc., Acro Service Corporation, the Bartech Group and Aerotek Automotive, Warren, OH; Amended Certification Regarding Eligibility To Apply for Worker Adjustment Assistance

In accordance with Section 223 of the Trade Act of 1974, as amended (“Act”), 19 U.S.C. 2273, the Department of Labor issued a Certification of Eligibility to Apply for Worker Adjustment Assistance on September 2, 2009, applicable to workers of General Motors Company, Lordstown Assembly Plant, Warren, Ohio. The notice was published in the Federal Register on November 5, 2009 (74 FR 57340). The notice was amended on October 13, 2009 to include on-site leased workers from Adroit Software & Consulting, Inc., Acro Service Corp., The Bartech Group and Aerotek Automotive. The notice was published in the Federal Register on October 27, 2009 (74 FR 55261).

At the request of a company official, the Department reviewed the certification for workers of the subject firm. The workers assemble the Chevrolet Cobalt and Pontiac G5. The workers are not separately identifiable by vehicle.

The company reports that the Lordstown Complex facility located at the Warren, Ohio location of General Motors Company includes both the assembly plant and stamping plant and together are part of a continuous operation and are considered a singular entity.

Based on these findings, the Department is amending this certification to correctly identify the Lordstown facility as the Lordstown Complex of General Motors, Warren, Ohio.

The amended notice applicable to TA-W-70,623 is hereby issued as follows:

All workers of General Motors Company, Lordstown Complex, including on-site leased workers from Adroit Software & Consulting, Inc., Acro Service Corporation, The Bartech Group and Aerotek Automotive, Warren, Ohio, who became totally or partially separated from employment on or after May 18, 2008, through September 2, 2011, and all workers in the group threatened with total or partial separation from employment on date of certification through two years from the date of certification, are eligible to apply for adjustment assistance under Chapter 2 of Title II of the Trade Act of 1974, as amended.

Signed at Washington, DC, this 19th day of November 2009.
Richard Church,
Certifying Officer, Division of Trade Adjustment Assistance.

[FR Doc. E9-29152 Filed 12-7-09; 8:45 am]

BILLING CODE 4510-FN-P